DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held March 5, 2002, starting at 9 am.

ADDRESSES: The meeting will be held at RTCA, Inc., 1828 L Street, NW., Suite 805, Washington, DC, 20036.

FOR FURTHER INFORMATION CONTACT: RTCA Secretariat, 1828 L Street NW., Suite 850, Washington, DC, 20036; telephone (202) 833-9339; fax (202) 833-9434; web site http://www.rtca.org.

SUPPLEMENTARY INFORMATION: Pursuant to section 10(a)(2) of the Federal Advisory Committee Act (Public Law 92-463, 5 U.S.C., Appendix 2), notice is hereby given for a Program Management Committee meeting. The agenda will include:

• March 5:

• Opening Session (Welcome and Introductory Remarks, Review/Approve Summary of Previous Meeting)

• Publication Consideration/Approval:

• Final Draft, Change 2, DO-186A, Minimum Operational Performance Standards for Airborne Radio Communications Equipment Operating within the Radio Frequency Range 117.975-137.000 MHz; RTCA Paper No. 025-02/PMC-197, prepared by SC-172

• Final Draft, User Requirements for Terrain and Obstacle Data; RTCA Paper No. 023-02/PMC-195, prepared by SC-193/WG-44

• Final Draft, Minimum Aviation System Performance Standards (MASPS) for the High Frequency Data Link Operating in the Aeronautical Mobile (Route) Service (AM(R)(S); RTCA Paper No. 024-02/PMC-196, prepared by SC-188

• Final Draft, Guidelines for Communication, Navigation, Surveillance, and Air Traffic Management (CNS/ATM) Systems Software Integrity Assurance; RTCA Paper No. 026-02/PMC-198, prepared by SC-190/WG-52

• Final Draft, Next Generation Air/Ground Communications (NEXCOM) Principles of Operations VDL Mode 3; prepared by SC-198

• Discussion:

• Special Committee 186, ADS-B; Update to Terms of Reference.

• Special Committee Chairman's Reports.

• Action Item Review:

• Action Item 06-01, Modular Avionics Special Committee; Status and Recommendations

• Action Item 08-01, DO-181C Revision; Status

• Action Item, 10-01, Portable Electronic Device Request; Status and Recommendations.

• Closing Session (Other Business, Document Production, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on February 5, 2002.
Janice L. Peters,
FAA Special Assistant, RTCA Advisory Committee.

[FR Doc. 02-3551 Filed 2-12-02; 8:45 am]

BILLING CODE 4910-13-M